DEPARTMENT OF ENERGY

[Docket No. EA-171-B]

Application To Export Electric Energy Powerex Corp.

AGENCY: Office of Fossil Energy, DOE.

ACTION: Notice of application.

SUMMARY: Powerex Corp. (Powerex) has applied to renew its authority to transmit electric energy from the United States to Canada pursuant to section 202(e) of the Federal Power Act.

DATES: Comments, protests or requests to intervene must be submitted on or before March 7, 2005.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On February 25, 1998, the Office of Fossil Energy (FE) of the Department of Energy (DOE) issued Order No. EA-171 authorizing British Columbia Power Exchange Corporation (BC Power) to transmit electric energy from the United States to Canada as a power marketer. That order was renewed on February 23, 2000, and will expire on February 25, 2005. On October 4, 2000, DOE was notified that BC Power had officially changed its name to Powerex Corporation (Powerex).

On January 7, 2005, FE received an application from Powerex to renew its authorization to transmit electric energy from the United States to Canada for a five-year term. Powerex proposes to arrange for the delivery of those exports over the international transmission facilities owned by Basin Electric Power Cooperative, Bonneville Power Administration, Eastern Maine Electric Cooperative, International Transmission Company, Joint Owners of the Highgate Project, Long Sault, Inc., Maine Electric Power Company, Maine Public Service Company, Minnesota Power, Inc., Minnkota Power Cooperative, New York Power Authority, Niagara Mohawk Power Corporation, Northern States Power, Vermont Electric Power Company, and Vermont Electric Transmission Company.

The construction of each of the international transmission facilities to be utilized by Powerex, as more fully described in the application, has previously been authorized by a Presidential permit issued pursuant to Executive Order 10485, as amended.

Procedural Matters: Any person desiring to become a party to these proceedings or to be heard by filing comments or protests to this application should file a petition to intervene, comment or protest at the address provided above in accordance with §§ 385.211 or 385.214 of the FERC's Rules of Practice and Procedures (18 CFR 385.211, 385.214). Fifteen copies of each petition and protest should be filed with the DOE on or before the dates listed above.

Comments on the Powerex application to export electric energy to Canada should be clearly marked with Docket EA-171-B. Additional copies are to be filed directly with Paul W. Fox, Bracewell & Patterson, L.L.P., 111 Congress Avenue, Suite 2300, Austin, TX 78746, and Tracey L. Bradley, Bracewell & Patterson, L.L.P., 2000 K Street, NW., Suite 500, Washington, DC 20006, and Mike MacDougall, Powerex Corp., 666 Burrard Street, Suite 1400, Vancouver, British Columbia, Canada, V6C 2X8.

Copies of this application will be made available, upon request, for public inspection and copying at the address provided above or by accessing the Fossil Energy Home Page at http://www.fe.doe.gov. Upon reaching the Fossil Energy Home page, select “Electricity Regulation,” and then “Pending Proceedings” from the options menus.

Issued in Washington, DC, on January 28, 2005.
Anthony J. Como,
Deputy Director, Electric Power Regulation, Office of Fossil Energy.

[FR Doc. 05-2183 Filed 2-3-05; 8:45 am]

BILLING CODE 6450-01-P